FEDERAL COMMUNICATIONS COMMISSION

47 CFR Part 20

[FCC 10-145; WT Docket No. 07-250]

Amendment of the Commission's Rules Governing Hearing Aid-Compatible Mobile Handsets; Announcement of Effective Date

AGENCY: Federal Communications Commission.

ACTION: Final rule; announcement of effective date.

SUMMARY: In this document, the Federal Communications Commission announces that it has received OMB approval for collection 3060-099. The Commission adopted these rules to ensure that consumers with hearing loss are able to access wireless communications services.

DATES: The amendment to 47 CFR 20.19(f) published at 75 FR 54508, September 8, 2010, is effective December 14, 2010.

FOR FURTHER INFORMATION CONTACT: Judith B. Herman, Federal Communications Commission, at (202) 418-0214 or via the Internet at Judith-B.Herman@fcc.gov.

SUPPLEMENTARY INFORMATION: The Federal Communications Commission (FCC) has received Office of Management and Budget (OMB) approval for the following public information collection pursuant to the Paperwork Reduction Act of 1995, Public Law 104-13. An agency may not conduct or sponsor and a person is not required to respond to a collection of information unless it displays a currently valid control number.

OMB Control No.: 3060-0999.

Expiration Date: 12/31/13.

Title: Hearing Aid Compatibility Status Report and Section 20.19, Hearing Aid-Compatible Mobile Handsets (Hearing Aid Compatibility Act).

Form No.: FCC Form 655—electronic only.

Estimated Annual Burden: 925 respondents; 925 responses; 12,063 total annual hours.

Needs and Uses: In the Report and Order in WT Docket 01-309, FCC 03-168, adopted and released in September 2003, the Federal Communications Commission modified the exemption for telephones used with public mobile services from the requirements of the Hearing Aid Compatibility Act of 1988 (HAC Act). The Order required digital wireless phone manufacturers and service providers to make certain digital wireless phones capable of effective use with hearing aids. As part of that Order, manufacturers and service providers were required to label certain phones they sold with information about their compatibility with hearing aids, and also to report to the Commission (at first every six months, then on an annual basis) on the numbers and types of hearing aid-compatible phones they were producing or offering to the public.

In February 2008, the Commission adopted final rules in a Report and Order, FCC 08-68, which updated several of the performance benchmarks for manufacturers and service providers, and instituted new requirements for manufacturers to refresh their product lines and for service providers to offer hearing aid-compatible handset models with differing levels of functionality. The Commission also adopted a new version of the technical standard for measuring hearing aid compatibility, and addressed the application of the rules to phones that operate in multiple frequency bands or air interfaces. In order to avoid potential consumer confusion over technical capabilities, the Order also modified the product labeling requirements slightly.

To assist the Commission in monitoring the implementation of the new requirements and to provide information to the public, the Report and Order also required manufacturers and service providers to continue to file annual reports on the status of their compliance with these requirements, and required manufacturers and service providers that maintain public Web sites to publish up-to-date information on those Web sites regarding their hearing aid-compatible handset models. The annual reports required in the Order contained different and additional information than in previous versions of this information collection and, for the first time, were required to be submitted by manufacturers and service providers using electronic FCC Form 655. The reporting and third party disclosure requirements for the aforementioned Report and Order were approved most recently by OMB on June 5, 2009 under OMB Control Number 3060-0999.

Recently, on August 5, 2010, the Commission adopted final rules in a Second Report and Order, published at FCC 10-145, 75 FR 54508, September 8, 2010, that, among other things, updated disclosure requirements for manufacturers and service providers. Manufacturers and service providers are now required to adequately inform consumers about the functionality and the limitations of their handsets in two specific situations. For handsets that meet hearing aid compatibility requirements over all air interfaces and frequency bands for which hearing aid compatibility technical standards have been established, but that are also capable of supporting voice operations in any new frequency band or air interface for which such standards do not exist, beginning March 8, 2011, the following disclosure language must be clearly and effectively conveyed to consumers wherever the hearing aid compatibility rating for the handset is provided, including at the point of sale ¹ and on company Web sites: “This phone has been tested and rated for use with hearing aids for some of the wireless technologies that it uses. However, there may be some newer wireless technologies used in this phone that have not been tested yet for use with hearing aids. It is important to try the different features of this phone thoroughly and in different locations, using your hearing aid or cochlear implant, to determine if you hear any interfering noise. Consult your service provider or the manufacturer of this phone for information on hearing aid compatibility. If you have questions about return or exchange policies, consult your service provider or phone retailer.”

¹ Means of providing this language at the point of sale could include, for example, call-out cards or an insert in the handset's packaging.

The Second Report and Order also modifies the de minimis exception in the existing rule so that all large entities are required to offer at least one hearing aid-compatible model after a two-year initial period. Further, the Commission is allowing companies that offer one or two handset models over the Global System for Mobile Communications (“GSM”) air interface, if they would have been eligible for the amended de minimis exception but for their size, to satisfy their obligation to offer one hearing aid-compatible handset over the GSM air interface by offering a handset that lets the consumer reduce maximum transmit power for GSM operations in the 1900 MHz band by up to 2.5 decibels. The Commission grants this exception subject to certain conditions, one of which is that companies that choose to use this exception must adequately inform consumers of the need to select the power reduction option to achieve hearing aid compatibility and of the consequences of doing so. Specifically, wherever a manufacturer or service provider provides the hearing aid compatibility rating for such a handset, it shall indicate that user activation of a special mode is necessary to meet the hearing aid compatibility standard for radio frequency (RF) interference reduction. In addition, the handset manual or a product insert must explain how to activate the special mode and that doing so may result in a diminution of coverage.²

² The need for the consumer to reduce the power in order to meet the hearing aid compatibility standard should also be clearly stated in the filing for equipment certification.

Beyond the updated disclosure requirements noted above, certain fields have been changed on Form 655 in order to clarify information previously gathered in this collection and bring the collection into conformance with the amended rules. Specifically, manufacturers and service providers are asked to provide the brand names under which they are offering digital commercial mobile radio services (if a service provider) or handsets (if a device manufacturer), in order to avoid confusion by identifying products and services offered under more than one brand name. In addition, the questions concerning handsets capable of Wi-Fi voice operation have been expanded to include handsets that are capable of voice communication without changes to the hardware in the handset over any air interface or frequency band for which hearing aid compatibility technical standards do not exist.

The updated disclosures will create no additional burden for manufacturers and service providers, but will ensure that consumers and the Commission are provided with consistent and sufficient information about the functionality and the limitations of offered handsets. These actions are taken to ensure that consumers who use hearing aids and cochlear implants have access to a variety of phones and are adequately informed about the functionality and the limitations of the handsets, while preserving competitive opportunities for small companies as well as opportunities for innovation and investment. Similarly, the additional fields will create no significant additional burden for manufacturers and service providers but will clarify the responses already required by Form 655, helping the Commission compile data and monitor compliance with the hearing aid compatibility rules while making more complete and accessible information available to consumers.

Federal Communications Commission.
Marlene H. Dortch,
Secretary, Federal Communications Commission.

[FR Doc. 2010-31358 Filed 12-13-10; 8:45 am]

BILLING CODE 6712-01-P